DEPARTMENT OF LABOR

Employment and Training Administration

[TA-W-63,723]

General Motors Corporation, GMNA Powertrain—Massena, Including On-Site Leased Workers From Aerotek, Inc., Knights Facilities Management, IS One, APC Worforce, Securitas Security Services, The Bas Tech Group, Maxsys Usa, Inc., Adroit Software & Consulting, Inc. and Acro Service Corp., Massena, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on September 3, 2008, applicable to workers of General Motors Corporation, GMNA Powertrain—Massena, Massena, New York. The notice was published in the Federal Register on September 18, 2008 (73 FR 54174).

At the request of the State agency, the Department reviewed the certification for workers of the subject firm. The workers are engaged in the production of aluminum castings for engines.

New information shows that workers leased from the above mentioned firms were employed on-site at the Massena, New York location of General Motors Corporation, GMNA Powertrain—Massena. The Department has determined that these workers were sufficiently under the control of General Motors Corporation, GMNA Powertrain—Massena to be considered leased workers.

Based on these findings, the Department is amending this certification to include workers leased from the above mentioned firms working on-site at the Massena, New York location of the subject firm.

The intent of the Department's certification is to include all workers employed at General Motors Corporation, GMNA Powertrain—Massena, Massena, New York who qualify as secondarily affected by increased imports of aluminum castings for engines.

The amended notice applicable to TA-W-63,723 is hereby issued as follows:

“All workers of General Motors Corporation, GMNA Powertrain—Massena, including on-site leased workers from Aerotek, Inc., Knights Facilities Management, IS One, APC Workforce, Securitas Security Services, The Bas Tech Group, Maxsys USA, Inc., Adroit Software & Consulting, Inc., Acro Service Corp., Massena, New York, who became totally or partially separated from employment on or after July 16, 2007, through September 3, 2010, are eligible to apply for adjustment assistance under Section 223 of the Trade Act of 1974, and are also eligible to apply for alternative trade adjustment assistance under Section 246 of the Trade Act of 1974.”

Signed at Washington, DC, this 18th day of November 2008.
Richard Church,
Certifying Officer, Division of Trade Adjustment Assistance.

[FR Doc. E8-28358 Filed 11-28-08; 8:45 am]

BILLING CODE 4510-FN-P